DEPARTMENT OF AGRICULTURE

Forest Service

P-Pine Project; Coeur d'Alene River Ranger District; Idaho Panhandle National Forests; Kootenai and Shoshone Counties, ID

AGENCY: Forest Service, USDA.

ACTION: Notice of intent to prepare an environmental impact statement.

SUMMARY: Coeur d'Alene River Ranger District of the Panhandle National Forest is proposing vegetation rehabilitation in the Deerfoot Ridge watershed located east of Hayden Lake, Idaho in Kootenai County (identified as the Ponderosa Pine Restoration Area for the purpose of this assessment). Only dry-site ecosystems within the watershed are proposed for rehabilitation at this time. The USDA Forest Service will prepare an environmental impact statement (EIS) to disclose the potential environmental effects of implementing vegetative restoration activities within the project area.

DATES: Written comments and suggestions should be received no later than 45 days from the date of publication of this notice.

ADDRESSES: Submit written comments and suggestions on the proposal, or requests to be placed on the project mailing list, to the Coeur d'Alene River Ranger District, Attn: Ponderosa Pine Restoration Project, 2502 E. Sherman Avenue, Coeur d'Alene, ID 83814.

FOR FURTHER INFORMATION CONTACT: Sarah Jerome, Project Team Leader, Coeur d'Alene River Ranger District, (208) 664-2318.

SUPPLEMENTARY INFORMATION: The purpose and need for this project is derived from the National Fire Plan, the Upper Columbia River Basin Ecosystem Management Project, and the Coeur d'Alene River Basin Geographic Assessment. Each of these provide documentation of the currently dense, fire-prone state of dry-site ecosystems across the Idaho Panhandle National Forests and in the Coeur d'Alene Basin, and the marked change these ecosystems have undergone over the past century. Site-specific information indicates that these same conditions are occurring on the stand level in the Deerfoot Ridge watershed. Key objectives are to: restore historical conditions in ponderosa pine stands based on the fire ecology of these forest types; trend vegetative species composition toward seral species more resistant to insects and disease; reduce the incidence of noxious weeds; reduce the risk of wildlife in the urban interface; reduce the overall risk of high-intensity, stand-replacing fires; and reduce fragmentation to improve wildlife habitat.

The Forest Service will consider a range of alternatives. One of these will be the “no action” alternative, under which there would be no change from current management of the area. Additional alternatives will represent a range of strategies to manage natural resources in the area. The Idaho Panhandle National Forest Land and Resource Management Plan provides guidance for management objectives within the potentially affected area through its goals, objectives, standards and guidelines, and management area direction. Inland Native Fish Strategy guidelines (USDA Forest Service, 1995) amend Forest Plan guidelines established for riparian areas.

The public was first notified of this proposal and the intention to prepare an environmental impact statement in February 2002. Initially, two areas were under consideration. In addition to the Deerfoot Ridge area, similar activities were proposed in the Two-Mile watershed (north of Silverton, Idaho). Based on additional information gathered, it was determined that these areas are sufficiently different to warrant separate analyses. The Deerfoot Ridge area was selected as the first priority; opportunities to restore ponderosa pine stands in the Two-Mile area will be evaluated under a separate assessment later in the year.

Comments provided by the public and other agencies will be used to develop strategies for management of natural resources in the project area. The public is encouraged to visit with Forest Service officials during the analysis and prior to the decision. The Forest Service is also seeking information, comments, and assistance from federal, state and local agencies and other individuals or organizations who may be interested in or affected by the proposed actions.

The draft environmental impact statement is expected to be filed with the Environmental Protection Agency (EPA) and available for public review in October 2002. At that time, the EPA will publish a Notice of Availability of the draft environmental impact statement in the Federal Register. The comment period on the draft environmental impact statement will be 45 days from the date the EPA publishes the Notice of Availability in the Federal Register.

The Forest Service believes it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519,553 (1978)). Also, environmental objections that could be raised at the draft environmental impact statement stage but that are not raised until after completion of the final environmental statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day scoping comment period so that substantive comments and objections are made available to the Forest Service at a time when it can meaningfully consider them and respond to them in the final environmental impact statement.

To assist the Forest Service in identifying and considering issues and concerns regarding the proposed action, comments on the draft environmental impact statement should be as specific as possible. It is also helpful if comments refer to specific pages or chapters of the draft environmental impact statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denies, the agency will return the submission and notify the requester that the comments may be resubmitted with or without name and address within a specified number of days.

I am the responsible official for this environmental impact statement. My address is 3815 Schreiber Way, Coeur d'Alene, ID 83815. Comments should be sent to the Coeur d'Alene River Ranger District, Attn: Ponderosa Pine Restoration Project, 2502 E. Sherman Avenue, Coeur d'Alene, ID 83814.

Dated: May 21, 2002.
Ranotta McNair,
Forest Supervisor.

[FR Doc. 02-13643 Filed 5-30-02; 8:45 am]

BILLING CODE 3410-11-M